DEPARTMENT OF HEALTH AND HUMAN SERVICES

Centers for Medicare and Medicaid Services

[CMS-3195-N]

Medicare Program; Request for Nominations for Members of the Medicare Evidence Development and Coverage Advisory Committee (MedCAC)

AGENCY: Centers for Medicare and Medicaid Services (CMS), HHS.

ACTION: Notice.

SUMMARY: This notice announces the request for nominations for consideration for membership on the Medicare Evidence Development and Coverage Advisory Committee (MedCAC).

We are requesting nominations for both voting and nonvoting members to serve on the MedCAC. Nominees are selected based upon their individual qualifications and not as representatives of professional associations or societies. We have a special interest in ensuring that women, minority groups, and physically challenged individuals are adequately represented on the MedCAC. Therefore, we encourage nominations of qualified candidates from these groups.

The MedCAC reviews and evaluates medical literature, reviews technology assessments, and examines data and information on the effectiveness and appropriateness of medical items and services that are covered or eligible for coverage under Medicare. The MedCAC advises the Secretary of the Department of Health and Human Services (the Secretary) and the Administrator of the Centers for Medicare and Medicaid Services (CMS), as requested by the Secretary, whether medical items and services are reasonable and necessary under Title XVIII of the Social Security Act.

DATES: Nominations will be considered if postmarked by 5 p.m., d.s.t. on March 10, 2008 and sent to the designated address provided in the ADDRESSES section of this notice.

ADDRESSES: You may mail nominations for membership to: Centers for Medicare and Medicaid Services, Office of Clinical Standards and Quality, Attention: Maria A. Ellis, 7500 Security Blvd., Mail Stop: 1-09-06, Baltimore, MD 21244.

FOR FURTHER INFORMATION CONTACT: Maria Ellis, Executive Secretary for MedCAC, Centers for Medicare and Medicaid Services OCSQ-Coverage and Analysis Group, C1-09-06, 7500 Security Blvd., Baltimore, MD 21244. 410-786-0309; Maria.Ellis@cms.hhs.gov.

SUPPLEMENTARY INFORMATION:

I. Background

On December 14, 1998, we published a notice in the Federal Register (63 FR 68780) announcing the establishment of the Medicare Coverage Advisory Committee (MCAC). The Secretary signed the initial charter for the Medicare Coverage Advisory Committee on November 24, 1998. In January 2007, CMS redesignated the MCAC to the Medicare Evidence Development and Coverage Advisory Committee (MedCAC). The charter was renewed by the Secretary and will terminate on November 23, 2008, unless renewed again by the Secretary.

The MedCAC is governed by provisions of the Federal Advisory Committee Act, (Pub. L. 92-463), as amended (5 U.S.C. App. 2), which sets forth standards for the formulation and use of advisory committees, and is authorized by section 222 of the Public Health Service Act as amended (42 U.S.C. 217a).

The MedCAC consists of a maximum of 100 appointed members. Of these, a maximum of 88 members are at-large standing voting members. Six of the 88 at-large voting member positions are reserved for patient advocates. The remaining 12 are nonvoting members (6 that represent consumer interests and 6 that represent industry interests).

Members are selected by the Secretary or designee from among the following areas: Clinical and administrative medicine; biologic and physical sciences; public health administration; patient advocacy; health care data and information management and analysis; health care economics; medical ethics; and other related professions. Members are invited to serve a 2-year term with the option of a 2-year extension. A Chair and Vice-Chair are appointed from the pool of at-large members. The Chair and Vice-Chair serve 1-year terms and may not serve more than 2 consecutive years in their respective capacities.

The Committee works from an agenda provided by the Designated Federal Official that lists specific issues, develops technical advice to assist us in determining reasonable and necessary applications of medical services and technology when we make national coverage decisions for Medicare, and advises CMS as part of the Medicare coverage evidence development activities.

II. Provisions of the Notice

The terms of 38 MedCAC members have expired. Of these 3 are nonvoting consumer representatives, 1 is a nonvoting industry representative, and 4 are voting patient advocates. Therefore, we are soliciting nominations to fill these positions. All nominations must be accompanied by curricula vitae. Nomination packages must be sent to the contact listed in the ADDRESSES section of this notice. Nominees for voting membership must have expertise and experience in one or more of the following fields:

• Clinical medicine of all specialties.

• Administrative medicine.

• Public health.

• Patient advocacy.

• Biologic and physical sciences.

• Health care data and information management and analysis.

• The economics of health care.

• Medical ethics.

• Other related professions such as epidemiology, biostatistics, and methodology of clinical trial design.

Our most critical need is for experts in ophthalmology and orthopedic surgery including treatment of fractures and knee, hip and other joint replacements.

We also need experts in psychopharmacology, Bayesian clinical trial methodology, clinical epidemiology, registries, rheumatology, screening and diagnostic testing analysis, stroke and stroke epidemiology, biostatistics in clinical settings, cardiovascular epidemiology, cost effectiveness analysis, dementia, endocrinology, geriatrics, gynecology, minority health, observational research design, and women's health.

The nomination letter must include a statement that the nominee is willing to serve as a member of the MedCAC and appears to have no conflict of interest that would preclude membership.

We are requesting that all curricula vitae include the following:

• Date of birth.

• Place of birth.

• Social security number.

• Title.

• Current position.

• Professional affiliation.

• Home and business address.

• Telephone and fax numbers.

• E-mail address.

• List of areas of expertise.

We are requesting that the nomination letter specify whether the individual is being nominated for a voting membership (that is, an at-large member or patient advocate position) or nonvoting membership (that is, consumer representative or industry representative).

In order to permit us to evaluate potential sources of conflict of interest potential candidates will be asked to provide detailed information regarding financial holdings, consultancies, and research grants or contracts.

Members are invited to serve for overlapping 4-year terms. A member may serve after the expiration of the member's term until a successor takes office. Any interested person may nominate one or more qualified persons. Self-nominations are also accepted.

You may obtain a copy of the Secretary's Charter for the MedCAC by submitting a request to the contact listed in the FOR FURTHER INFORMATION CONTACT section of this notice. You may also review the charter online at: http://www.cms.hhs.gov/FACA/Downloads/medcaccharter.pdf.

Authority: 5 U.S.C. App. 2 Section 10(a)(1) and (a)(2). (Catalog of Federal Domestic Assistance Program No. 93.778, Medicare—Supplementary Medical Insurance Program)

Dated: January 18, 2008.
Barry M. Straube,
Chief Medical Officer and Director, Office of Clinical Standards and Quality, Centers for Medicare & Medicaid Services.

[FR Doc. E8-1345 Filed 1-25-08; 8:45 am]

BILLING CODE 4120-01-P